SMALL BUSINESS ADMINISTRATION

Region VII Regulatory Fairness Board; Meetings

The Small Business Administration Region VII Regulatory Fairness Board and the SBA Office of the National Ombudsman, will hold a Public Roundtable Thursday, November 1, 2001 at 1 p.m. at the Carlsen Center, Room 232, Johnson County Community College, 12345 College Boulevard, Overland Park, Kansas 66313, to provide small business owners and representatives of trade associations with an opportunity to share information concerning the regulatory enforcement and compliance environment.

Anyone wishing to attend or to make a presentation must contact Ms. Barbara Caldwell, Public Information Officer, in writing by letter or fax no later than October 31st , 2001, in order to be put on the agenda. Barbara Caldwell, Public Information Officer, Kansas City District Office, U.S. Small Business Administration, 323 W. 8th Street, Lucas Place, Suite 501 Kansas City, MO 64105, Phone (816) 374-6762 (ext. 244), fax (816) 374-6759.

Steve Tupper,
Committee Management Officer.

[FR Doc. 01-26739 Filed 10-23-01; 8:45 am]

BILLING CODE 8025-01-P